NATIONAL SCIENCE FOUNDATION

National Science Board; Sunshine Act Meetings; Notice

The National Science Board's Subcommittee on Facilities (SCF), pursuant to NSF regulations (45 CFR part 614), the National Science Foundation Act, as amended (42 U.S.C. 1862n-5), and the Government in the Sunshine Act (5 U.S.C. 552b), hereby gives notice in regard to the scheduling of a meeting for the transaction of National Science Board business, as follows:

DATE AND TIME: Monday, November 7, 2011 from 4 to 5 p.m., EST.

SUBJECT MATTER: Discussion of Mid-scale Instrumentation Report.

STATUS: Open.

This meeting will be held by teleconference originating at the National Science Board Office, National Science Foundation, 4201Wilson Blvd., Arlington, VA 22230. A room will be available for the public and NSF staff to listen-in on this teleconference meeting. All visitors must contact the Board Office at least one day prior to the meeting to arrange for a visitor's badge and obtain the room number. Call (703) 292-7000 to request your badge, which will be ready for pick-up at the visitor's desk on the day of the meeting. All visitors must report to the NSF visitor desk at the 9th and N. Stuart Streets entrance to receive their visitor's badge on the day of the teleconference.

Please refer to the National Science Board Web site (http://www.nsf.gov/nsb/notices/) for information or schedule updates, or contact: Blane Dahl, National Science Foundation, 4201Wilson Blvd., Arlington, VA 22230. Telephone: (703) 292-7000.

Ann Bushmiller,
Senior Counsel to the National Science Board.

[FR Doc. 2011-29193 Filed 11-7-11; 4:15 pm]

BILLING CODE 7555-01-P